FEDERAL MARITIME COMMISSION

Ocean Transportation Intermediary License; Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier and Ocean Freight Forwarder Transportation Intermediary Applicants:

Uniworld Express, Inc., 520 Carson Plaza Ct., Suite 211, Carson, CA 90746, Officer: James Hwang, President, (Qualifying Individual).

Jet-Speed Logistics (USA), LLC dba Jet-Speed Ocean Line, 1555 Mittel Boulevard, Suite M, Wood Dale, IL 60191, Officer: Mark K. Phillips, Owner, (Qualifying Individual).

Ocean Freight Forwarder—Ocean Transportation Intermediary Applicant:

The Relocation Freight Corporation of America, 200 Summit Lake Drive, Valhalla, NY 10595, Officers: Michael Cazalet, Vice President, (Qualifying Individual), P. David Franzetta, President.

Dated: March 22, 2002.
Bryant L. VanBrakle,
Secretary.

[FR Doc. 02-7370 Filed 3-26-02; 8:45 am]

BILLING CODE 6730-01-P